DEPARTMENT OF HOMELAND SECURITY

Federal Emergency Management Agency

[Docket ID: FEMA-2021-0025; OMB No. 1660-0138]

Agency Information Collection Activities: Proposed Collection; Comment Request; Direct Housing Assistance Forms

AGENCY: Federal Emergency Management Agency, Department of Homeland Security.

ACTION: 60-day notice of revision and request for comments.

SUMMARY: The Federal Emergency Management Agency (FEMA), as part of its continuing effort to reduce paperwork and respondent burden, invites the general public to take this opportunity to comment on a revision of a currently approved information collection. In accordance with the Paperwork Reduction Act of 1995, this notice seeks comments concerning information collected by FEMA to provide temporary housing units, including manufactured housing units, recreational vehicles and other readily fabricated dwellings to eligible applicants who, as a direct result of a major disaster or emergency, are unable to occupy their primary residence or obtain adequate alternate housing, and therefore require temporary housing.

DATES: Comments must be submitted on or before December 13, 2021.

ADDRESSES: To avoid duplicate submissions to the docket, please submit comments at www.regulations.gov under Docket ID FEMA-2021-0025. Follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Brian Thompson, Supervisory Program Specialist, FEMA, Recovery Directorate, at 540-686-3602 or Brian.Thompson6@fema.dhs.gov. You may contact the Information Management Division for copies of the proposed collection of information at email address: FEMA-Information-Collections-Management@fema.dhs.gov.

SUPPLEMENTARY INFORMATION: The Robert T. Stafford Disaster Relief and Emergency Assistance Act, 42 U.S.C. 5174, as amended by the Disaster Mitigation Act of 2000 (Pub. L. 106-390), authorizes the President to provide temporary housing units, including manufactured housing units, recreational vehicles and other readily fabricated dwellings to eligible applicants who, as a direct result of a major disaster or emergency, are unable to occupy their primary residence or obtain adequate alternate housing, and therefore require temporary housing. Requirements for disaster-related housing needs of individuals and households who are eligible for temporary housing assistance may be found in Title 44 CFR 206.117—Housing Assistance. The information collected is used to determine the feasibility of a potential site for placement of temporary housing units (THUs) to ensure the THUs are ready for applicant occupancy, and to confirm applicant understanding of the requirements of occupancy of the THUs. The information will also provide FEMA with access to place the THUs, to document the installation and maintenance of the THUs, and to retrieve the THUs at the end of their use.

Collection of Information

Title: Direct Housing Assistance Forms.

Type of Information Collection: Revision of a currently approved information collection.

OMB Number: 1660-0138.

FEMA Forms: FEMA Form FF-104-FY-21-191 (English) (formerly 009-0-129), Transportable Temporary Housing Unit Ready for Occupancy Status; FF-104-FY-21-192 (English) (formerly 009-0-131), Sales Calculation Worksheet; FF-104-FY-21-193 (English) (formerly 009-0-134), Direct Temporary Housing Assistance Recertification Worksheet; FF-104-FY-21-194 (English) (formerly 009-0-135), Direct Temporary Housing Assistance Temporary Housing Agreement; FF-104-FY-21-195 (English) (formerly 009-0-137), Commercial Park Unit Pad Requirements—Information Checklist; FEMA Form FF-104-FY-21-109 (English) (formerly 010-0-9), Transportable Temporary Housing Unit Request for the Site Inspection; FEMA Form FF-104-FY-21-110 (formerly 010-0-10) Transportable Temporary Housing Unit Landowner's Authorization Ingress-Egress Agreement; FEMA Form FF-104-FY-21-110-A (English/Spanish) (formerly 010-0-10S), Autorización del Propietario/Acuerdo de Entrada y Salida; FF-104-FY-21-111 (English) (formerly 009-0-138), Transportable Temporary Housing Unit Inspection Report; FF-104-FY-21-112 (English) (formerly 009-0-136), Transportable Temporary Housing Unit Installation Work Order; FF-104-FY-21-113 (English) (formerly 009-0-130), Transportable Temporary Housing Unit Maintenance Work Order.

Abstract: The information collected is used to determine the feasibility of a potential site for placement of temporary housing units (THUs) to ensure the THUs are ready for applicant occupancy, and to confirm applicant understanding of the requirements of occupancy of the THUs. The information will also provide FEMA with access to place the THUs, to document the installation and maintenance of the THUs, and to retrieve the THUs at the end of their use.

Affected Public: Individuals or households, business or other for-profit.

Estimated Number of Respondents: 50,000.

Estimated Number of Responses: 50,000.

Estimated Total Annual Burden Hours: 12,088.

Estimated Total Annual Respondent Cost: $563,318.

Estimated Respondents' Operation and Maintenance Costs: $0.

Estimated Respondents' Capital and Start-Up Costs: $0.

Estimated Total Annual Cost to the Federal Government: $10,631,850.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Acting Branch Chief, Records Management Branch, Office of the Chief Administrative Officer, Mission Support, Federal Emergency Management Agency, Department of Homeland Security.

[FR Doc. 2021-22187 Filed 10-12-21; 8:45 am]

BILLING CODE 9111-23-P